DEPARTMENT OF COMMERCE

National Oceanic and Atmospheric Administration

RIN 0648-XC297

New England Fishery Management Council; Public Meetings

AGENCY: National Marine Fisheries Service (NMFS), National Oceanic and Atmospheric Administration (NOAA), Commerce.

ACTION: Notice; public meetings.

SUMMARY: The New England Fishery Management Council's (Council) Herring Advisory Panel and Herring Oversight Committee will hold meetings to consider actions affecting New England fisheries in the exclusive economic zone (EEZ).

DATES: These meetings will be held November 6-7, 2012. For specific dates and times, see SUPPLEMENTARY INFORMATION.

ADDRESSES: The meetings will be held at the Holiday Inn, One Newbury Street, Route 1, Peabody, MA 01960; Telephone: (978) 535-4600; Fax: (978) 535-8238. The meeting will also be available via webinar. Details on webinar registration are available at www.nefmc.org. For specific locations, see SUPPLEMENTARY INFORMATION.

Council address: New England Fishery Management Council, 50 Water Street, Mill #2, Newburyport, MA 01950.

FOR FURTHER INFORMATION CONTACT: Paul J. Howard, Executive Director, New England Fishery Management Council; telephone: (978) 465-0492.

SUPPLEMENTARY INFORMATION: The panel and committee's schedule and agenda for the following two meetings are as follows:

1. Tuesday, November 6, 2012 beginning at 10 a.m.—Herring Advisory Panel Meeting; The panel will discuss the development of the 2013-15 Atlantic herring fishery specifications and develop related recommendations for the Herring Committee and Council to consider.

2. Wednesday, November 7, 2012 beginning at 9:30 a.m.—Herring Oversight Committee Meeting; The Committee will continue development of alternatives for consideration in the 2013-15 Atlantic herring fishery specifications; 2013-15 herring fishery specifications include alternatives for 2013-15 overfishing limit (OFL), acceptable biological catch (ABC) and ABC control rule, management uncertainty and a total annual catch limit (ACL), domestic annual harvesting (DAH), domestic annual processing (DAP), Border Transfer (BT), options for sub-ACLs (annual quotas) for four herring management areas, and set-asides for research and fixed gear fisheries. They will address other business as necessary.

Although non-emergency issues not contained in this agenda may come before this group for discussion, those issues may not be the subject of formal action during this meeting. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for sign language interpretation or other auxiliary aids should be directed to Paul J. Howard (see ADDRESSES), at least 5 working days prior to the meeting date.

Authority: 16 U.S.C. 1801 et seq.

Dated: October 15, 2012.
William D. Chappell,
Acting Deputy Director, Office of Sustainable Fisheries, National Marine Fisheries Service.

[FR Doc. 2012-25724 Filed 10-18-12; 8:45 am]

BILLING CODE 3510-22-P